DEPARTMENT OF THE TREASURY

Internal Revenue Service

26 CFR Part 1

Unified Rule for Loss on Subsidiary Stock

CFR Correction

In Title 26 of the Code of Federal Regulations, Part 1 (§§ 1.1401 to 1.1550), revised as of April 1, 2012, on page 443, in § 1.1502-32, in paragraph (c)(3), after the first sentence, reinstate the following sentence:

§ 1.1502-32 Investment adjustments.

* * * * *

(c) * * *

(3) * * * For this purpose, the preferred stock is treated as entitled to a distribution no later than the time the distribution is taken into account under the Internal Revenue Code (e.g., under section 305). * * *

* * * * *

[FR Doc. 2013-07095 Filed 3-25-13; 8:45 am]

BILLING CODE 1505-01-D